DEPARTMENT OF COMMERCE

International Trade Administration

[A-570-918]

Steel Wire Garment Hangers From the People's Republic of China: Partial Rescission of Antidumping Duty Administrative Review

AGENCY: Import Administration, International Trade Administration, Department of Commerce.

DATES: Effective Date: March 18, 2011.

FOR FURTHER INFORMATION CONTACT: Robert Palmer, AD/CVD Operations, Office 9, Import Administration, International Trade Administration, U.S. Department of Commerce, 14th Street and Constitution Avenue, NW., Washington DC 20230; (202) 482-6905.

Background

On November 29, 2010, the Department of Commerce (“Department”) published in the Federal Register a notice of initiation of an administrative review of the antidumping duty order on steel wire garment hangers from the People's Republic of China (“PRC”) covering the period October 1, 2009, through September 30, 2010. See Initiation of Antidumping and Countervailing Duty Administrative Reviews 75 FR 73036 (November 29, 2010) (“Initiation Notice”). On December 23, 2010, the M&B Metal Products Inc. (“Petitioner”) withdrew its request for an administrative review of 87 ¹ companies out of the 102 companies upon which we initiated the administrative review. Petitioner was the only party to request a review of these 87 companies.

¹ These 87 companies are: Angang Clothes Rack Manufacture Company Limited; Bazhou Sanqiang Furniture Co., Ltd.; Bestallied International Corp.; Bestluck Enterprise Limited; Blue Mountain Imp Exp Co Ltd.; Bon Voyage Logistics Inc.; Butler Courtesy (Guilin) Inc.; C Import And Export (HongKong) Co., Ltd.; Century Distribution System (Shenzhen) Ltd.; Changzhou Fortune Handicraft Co., Ltd.; Changzhou MC Imp. & Exp. Co. Ltd. a/k/a Changzhou MC I E Co., Ltd.; China Fujian Minhou Shenghua Handicrafts Co., Ltd.; China Ningbo Wahfay Industrial (Group) Co., Ltd.; CTN Limited Company; CTO International Co. Ltd.; Eagle Brand Holdings Limited Ecocom Crafts Co., Ltd. a/k/a/Hangzhou Ecocom Crafts Co., Ltd.; Eisho Co., Ltd. a/k/a Eisho Hanger Co., Ltd.; Fujian Pucheng Breeze Home Products, Inc.; Good Wonder Ltd.; Guangdong Machinery Imp. & Exp. Co.; Guangdong Provincial Taoyue Manufacturing Co., Ltd.; Guangxi Yikai Industry and Trade Co., Ltd. ; Guangzhou Haojin Motorcycle Company; Guangzhou Zhuocheng Plastic Co., Ltd.; Guilin Betterall Household Articles Co., Ltd.; Guilin Harvest Co., Ltd.; Guilin Jinlai Imp. & Exp. Co., Ltd.; Guilin Yusense Home Collection Co., Ltd.; Haimen Jinhang Business Trading Co.; Haiyan Lianxiang Hardware Products Co.; Hangzhou Dunli Import & Export Co.; Hanji Metals and Plastics Crafts Co.; Hd Supply Shenzhen; Hezhou City Yaolong Trade Co Ltd.; Jiahe International Trading Co.; Jiangmen Masters Hardware Products; Jiangsu Y and S Inc.; Jiangyin Hongji Metal Products Co., Ltd.; K.O.D Solutions Limited Dongguan Office; Kingtex Imp & Exp Co., Ltd.; Laidlaw Company LLC; Mainfreight Int'l Logistics (Shanghai) Co. Ltd.; Maxplus Industries Co., Ltd.; Nanjing Feisike Import & Export Trading Co. Ltd.; Ningbo Beilun Huafa Metal Products; Ningbo Everun International Limited; Ningbo First Rank International Co.; Ningbo Home-dollar Imp. & Exp. Corp.; Ningbo Hongdi Measuring Tape Co., Ltd.; Ningbo Municipal Xinyu Imp. & Exp. Co.; Ningbo Wellway Imp. & Exp. Co., Ltd.; Overseas Int'l Group Corp.; Plastic Intercon Co., Ltd.; Quyky Yanglei International Co., Ltd., a/k/a/Quyky Group; Shandong Autjinrong Found-assemble Co., Ltd.; Shanghai Cheertie Display Fixture; Shanghai Electric Imp. & Exp. Co., Ltd.; Shanghai Hua Yue Packaging Products; Shanghai International Trade Transportation Co., Ltd.; Shanghai International Trade Yee Da Imp. & Ex. Co. Ltd.; Shanghai New Union Textra Import & Export Co., Ltd.; Shanghai Overseas Enterprises Co.Ltd.; Shanghai Textile Raw Materials; Shanghai Wintex Import & Export Co., Ltd.; Shaoxing Amazon Prime Trade Co., Ltd.; Shaoxing Dingli Metal Clotheshorse Co., Ltd.; Shaoxing Kinglaw Metal Products Co., Ltd.; Shenzhen He Zhenglong Imp. & Exp. Co. Ltd., a/k/a Shenzhen He Zhong Long Imxp; Shenzhen SED Industry Co., Ltd. a/k/a/Shenzhen Sed Electronics Co.; Sunny Metal Inc.; Taishan Jinji Hangers Co., Ltd.; Taizhou Huasheng Wooden Co., Ltd.; Tianjin Tailai Imp & Exp Co., Ltd.; Transtek Automotive Products Co. Ltd.; Tri-star Trading Co.; Uasha Group International Shanghai Ltd.; Universal Houseware (Dongguan); Wenzhou N.& A. foreign Trade Corp.; Wenzhou Pan Pacific Foreign Trade Co., Ltd.; Wesken International (Kunshan) Co., Ltd.; World Trading Service Limited; X&Y Papa-fix Industry Limited; Zhangjiagang Maohua Coating & Adorn Zhejiang Arts and Crafts Import; Zhejiang Huamao International Co., Ltd.; and Zhejiang Wenzhou Packaging Imp. & Exp.

Partial Rescission

Pursuant to 19 CFR 351.213(d)(1), the Secretary will rescind an administrative review, in whole or in part, if a party who requested the review withdraws the request within 90 days of the date of publication of notice of initiation of the requested review. Petitioner's request was submitted within the 90 day period and, thus, is timely. Because Petitioner's withdrawal of its request for review is timely and because no other party requested a review of the aforementioned companies, in accordance with 19 CFR 351.213(d)(1), we are partially rescinding this review with respect to the 87 companies listed above.

Assessment Rates

The Department will instruct U.S. Customs and Border Protection (“CBP”) to assess antidumping duties on all appropriate entries. For those companies for which this review has been rescinded and which have a separate rate, antidumping duties shall be assessed at rates equal to the cash deposit of estimated antidumping duties required at the time of entry, or withdrawal from warehouse, for consumption, in accordance with 19 CFR 351.212(c)(2). The Department intends to issue appropriate assessment instructions directly to CBP 15 days after publication of this notice for those companies with a separate rate.

For the above companies that are part of the PRC-wide entity, the Department cannot order liquidation at this time because although they are no longer under review as a separate entity, they may still be under review as part of the PRC-wide entity. Therefore, the Department cannot order liquidation instructions at this time because their respective entries may be under review in the ongoing administrative review. The Department intends to issue assessment instructions for the PRC-wide entity, 15 days after publication of the final results of the ongoing administrative review.

Notification to Importers

This notice serves as a final reminder to importers for whom this review is being rescinded, as of the publication date of this notice, of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

Notification Regarding Administrative Protective Orders

This notice also serves as a reminder to parties subject to administrative protective order (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with 19 CFR 351.213(d)(4).

Dated: March 14, 2011.
Christian Marsh,
Deputy Assistant Secretary for Antidumping and Countervailing Duty Operations.

[FR Doc. 2011-6455 Filed 3-17-11; 8:45 am]

BILLING CODE 3510-DS-P